DEPARTMENT OF COMMERCE

National Oceanic and Atmospheric Administration (NOAA)

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a meeting of the Marine Protected Areas Federal Advisory Committee (Committee) in Winter Harbor, Maine.

DATES: The meeting will be held Tuesday, May 24, 2016, from 9:00 a.m. to 5:00 p.m.; Wednesday, May 25, 2016, from 8:30 a.m. to 5:00 p.m.; and Thursday, May 26, 2016, from 8:30 a.m. to 5:00 p.m. These times and the agenda topics described below are subject to change. Refer to the Web page listed below for the most up-to-date meeting agenda.

ADDRESSES: The meeting will be held at the Schoodic Institute at Acadia National Park, Schoodic Point, 9 Atterbury Circle, Winter Harbor, Maine 04693.

FOR FURTHER INFORMATION CONTACT: Lauren Wenzel, Designated Federal Officer, MPA FAC, National Marine Protected Areas Center, 1305 East West Highway, Silver Spring, Maryland 20910. (Phone: 301-713-7265, Fax: 301-713-3110); email: lauren.wenzel@noaa.gov; or visit the National MPA Center Web site at http://marineprotectedareas.noaa.gov/.

SUPPLEMENTARY INFORMATION: The Committee, composed of external, knowledgeable representatives of stakeholder groups, was established by the Department of Commerce (DOC) to provide advice to the Secretaries of Commerce and the Interior on implementation of Section 4 of Executive Order 13158, on marine protected areas (MPAs). The meeting is open to the public, and public comment will be accepted from 4:30 p.m. to 5:00 p.m. on Tuesday, May 24, 2016. In general, each individual or group will be limited to a total time of five (5) minutes. If members of the public wish to submit written statements, they should be submitted to the Designated Federal Official by Friday, May 20, 2016.

Matters To Be Considered: The focus of the Committee's meeting will be to complete and act on Subcommittee and Working Group reports and recommendations related to ecological connectivity, external financing, and Arctic MPAs; provide an opportunity for public comment on MPA issues; and provide an opportunity for Committee input on potential future focus areas. The agenda is subject to change. The latest version will be posted at http://marineprotectedareas.noaa.gov/.

Dated: April 28, 2016.
John A. Armor,
Acting Director, Office of National Marine Sanctuaries, National Ocean Service, National Oceanic and Atmospheric Administration.

[FR Doc. 2016-10532 Filed 5-4-16; 8:45 am]

BILLING CODE 3510-NK-P